SECURITIES AND EXCHANGE COMMISSION

Issuer Delisting; Notice of Application of Summit Securities, Inc., To Withdraw Its Variable Rate Cumulative Preferred Stock, Series S-3, Par Value $10.00, From Listing and Registration on the American Stock Exchange LLC File No. 1-16177

December 31, 2003.

Summit Securities, Inc., an Idaho corporation (“Issuer”), has filed an application with the Securities and Exchange Commission (“Commission”), pursuant to Section 12(d) of the Securities Exchange Act of 1934 (“Act”) ¹ and Rule 12d2-2(d) thereunder,² to withdraw its Variable Rate Cumulative Preferred Stock, Series S-3, par value $10.00 (“Security”), from listing and registration on the American Stock Exchange LLC (“Amex” or “Exchange”).

¹ 15 U.S.C. 78l(d).

² 17 CFR 240.12d2-2(d).

The Issuer stated in its application that it has met the requirements of Amex Rule 18 by complying with all applicable laws in the State of Idaho, in which it is incorporated, and with the Amex's rules governing an issuer's voluntary withdrawal of a security from listing and registration.

The Board of Directors (“Board”) of the Issuer unanimously approved a resolution on December 23, 2003 to withdraw the Issuer's Security from listing on the Amex and to list such Security on the OTC Bulletin Board. The Board states that the following reason factored into its decision to withdraw the Security from listing and registration on the Amex: On December 22, 2003, the Issuer received notice from the Exchange that the Issuer was not in compliance with the Exchange's continued listing standards pursuant to Sections 1003 and 1009 of the Exchange's Company Guide.

The Issuer's application relates solely to the withdrawal of the Securities from listing on the Amex and from registration under Section 12(b) of the Act ³ and shall not affect its obligation to be registered under Section 12(g) of the Act.⁴

³ 15 U.S.C. 78l(b).

⁴ 15 U.S.C. 78l(g).

Any interested person may, on or before January 28, 2004, submit by letter to the Secretary of the Securities and Exchange Commission, 450 Fifth Street, NW., Washington, DC 20549-0609, facts bearing upon whether the application has been made in accordance with the rules of the Amex and what terms, if any, should be imposed by the Commission for the protection of investors. The Commission, based on the information submitted to it, will issue an order granting the application after the date mentioned above, unless the Commission determines to order a hearing on the matter.

For the Commission, by the Division of Market Regulation, pursuant to delegated authority.⁵
⁵ 17 CFR 200.30-3(a)(1).
Jonathan G. Katz,
Secretary.

[FR Doc. 04-262 Filed 1-6-04; 8:45 am]

BILLING CODE 8010-01-M